DEPARTMENT OF COMMERCE

International Trade Administration

[A-201-836]

Light-Walled Rectangular Pipe and Tube From Mexico: Preliminary Results of Antidumping Duty Administrative Review; 2019-2020

AGENCY: Enforcement and Compliance, International Trade Administration, Department of Commerce.

SUMMARY: The Department of Commerce (Commerce) is conducting an administrative review of the antidumping duty (AD) order on light-walled rectangular pipe and tube from Mexico, covering the period August 1, 2019, through July 31, 2020. We preliminarily find that Regiomontana de Perfiles y Tubos S. de R.L. de C.V. (Regiopytsa) and Perfiles LM, S.A. de C.V. (Perfiles) made sales of subject merchandise at less than normal value (NV) during the period of review (POR). We invite interested parties to comment on these preliminary results.

DATES: Applicable September 7, 2021.

FOR FURTHER INFORMATION CONTACT: John Conniff or Kyle Clahane, AD/CVD Operations, Office III, Enforcement and Compliance, International Trade Administration, U.S. Department of Commerce, 1401 Constitution Avenue NW, Washington, DC 20230; telephone: (202) 482-1009 and (202) 482-5449, respectively.

SUPPLEMENTARY INFORMATION:

Background

On August 5, 2008, Commerce published the Order in the Federal Register.¹ On October 6, 2020, Commerce published in the Federal Register a notice of initiation listing the firms for which timely requests were submitted for an administrative review of 18 companies.² On December 3, 2020, we selected Perfiles and Regiopytsa for individual examination as the mandatory respondents in this administrative review.³ On January 19, 2021, we rescinded the review for 12 companies included in the Initiation Notice.⁴ On April 13, 2021, we extended the deadline for the preliminary results to August 31, 2021.⁵

¹ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008) (Order).

² See Initiation of Antidumping and Countervailing Duty Administrative Reviews, 85 FR 63081 (October 6, 2020) (Initiation Notice). The Initiation Notice listed 18 companies and 19 company names since it included both the current and former versions of Regiopytsa's company name.

³ See Memorandum, “2019-2020 Antidumping Duty Administrative Review of Light-Walled Rectangular Pipe and Tube from Mexico: Respondent Selection Memorandum,” dated December 3, 2020 at 1.

⁴ See Light-Walled Rectangular Pipe and Tube from Mexico: Partial Rescission of Antidumping Duty Administrative Review: 2019-2020, 86 FR 5135 (January 19, 2021).

⁵ See Memorandum, “Light-Walled Rectangular Pipe and Tube from Mexico: Extension of Deadline for the Preliminary Results of Antidumping Duty Administrative Review; 2019-2020,” dated April 13, 2021.

For a complete description of the events that followed the initiation of the review, see the Preliminary Decision Memorandum.⁶ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. A list of topics included in the Preliminary Decision Memorandum is included in the Appendix to this notice.

⁶ See Memorandum, “Decision Memorandum for the Preliminary Results: Light-Walled Rectangular Pipe and Tube from Mexico; 2019-2020,” dated concurrently with, and hereby adopted by, this notice (Preliminary Decision Memorandum).

Scope of the Order

The products covered by the scope of the order are certain light-walled rectangular pipe and tube from Mexico. For a complete description of the scope, see the Preliminary Decision Memorandum.

Methodology

Commerce is conducting this review in accordance with sections 751(a)(2) of the Tariff Act of 1930, as amended (the Act). Export price was calculated in accordance with section 772 of the Act. Normal value was calculated in accordance with section 773 of the Act. For a full description of the methodology underlying our conclusions, see the Preliminary Decision Memorandum.

Rate for Non-Selected Companies

For the rate for companies not selected for individual examination in an administrative review, generally, Commerce looks to section 735(c)(5) of the Act, which provides instructions for calculating the all-others rate in a less-than-fair-value (LTFV) investigation. Under section 735(c)(5)(A) of the Act, the all-others rate is normally “an amount equal to the weighted average of the estimated weighted-average dumping margins established for exporters and producers individually investigated, excluding any zero or de minimis margins, and any margins determined entirely {on the basis of facts available}.” In this administrative review, we calculated a weighted-average dumping margin each for Perfiles and Regiopytsa that is not zero, de minimis, or based on total facts available. The weighted-average dumping margin calculated for the non-selected companies is an average of the weighted-average dumping margins of the two mandatory respondents weighted by the publicly ranged U.S. sales values of the mandatory respondents.⁷

⁷ See Memorandum, “Calculation of the Rate for Non-Selected Respondents,” dated concurrently with this notice; see also Ball Bearings and Parts Thereof from France, Germany, Italy, Japan, and the United Kingdom: Final Results of Antidumping Duty Administrative Reviews, Final Results of Changed-Circumstances Review, and Revocation of an Order in Part, 75 FR 53661, 53663 (September 1, 2010).

Preliminary Results of Review

We preliminarily determine that, for the period August 1, 2019, through July 31, 2020, the following weighted-average dumping margins exist:

Exporter or producer | Weighted- average dumping margin (percent)
Perfiles LM, S.A. de C.V | 0.78
Regiomontana de Perfiles y Tubos S. de R.L. de C.V ⁸ | 1.05
Maquilacero S.A. de C.V | 0.98
Nacional de Acero S.A. de C.V | 0.98
Productos Laminados de Monterrey S.A. de C.V | 0.98
Ternium Mexico S.A. de C.V | 0.98

Disclosure and Public Comment

We intend to disclose the calculations performed for these preliminary results to parties within five days after the date of publication of this notice.⁹

⁸ See Light-Walled Rectangular Pipe and Tube from Mexico: Preliminary Results and Partial Rescission of Antidumping Duty Administrative Review; 2018-2019, 85 FR 83886 (December 23, 2020), and accompanying Preliminary Decision Memorandum at 6, unchanged in Light-Walled Rectangular Pipe and Tube from Mexico: Final Results of Antidumping Duty Administrative Review; 2018-2019, 86 FR 33646 (June 25, 2021), where Commerce determined that Regiomontana de Perfiles y Tubos S. de R.L. de C.V. is the successor-in-interest to Regiomontana de Perfiles y Tubos S.A. de C.V. The successor is merely a revision of the type of incorporation under Mexican law that did not impact the company's ownership, management, or operations. For the current review, the petitioner's review request included both the current and former versions of Regiopytsa's company name.

⁹ See 19 CFR 351.224(b).

Commerce will announce the briefing schedule to interested parties at a later date. Interested parties may submit case briefs on the deadline that Commerce will announce. Rebuttal briefs, limited to issues raised in the case briefs, may be filed not later than seven days after the date for filing case briefs.¹⁰ Parties who submit case or rebuttal briefs in this proceeding are encouraged to submit with each argument: (1) A statement of the issue; (2) a brief summary of the argument; and (3) a table of authorities.¹¹ Executive summaries should be limited to five pages total, including footnotes.

¹⁰ See 19 CFR 351.309(d)(1).

¹¹ See 19 CFR 351.309(c)(2) and (d)(2).

Interested parties who wish to request a hearing must submit a written request to the Assistant Secretary for Enforcement and Compliance within 30 days of the date of publication of this notice.¹² Requests should contain: (1) The party's name, address and telephone number; (2) the number of participants; and (3) a list of issues parties intend to discuss. Issues raised in the hearing will be limited to those raised in the respective case and rebuttal briefs. If a request for a hearing is made, Commerce intends to hold the hearing at a time and date to be determined. Parties should confirm by telephone the date and time of the hearing two days before the scheduled date.

¹² See 19 CFR 351.310(c).

All submissions, including case and rebuttal briefs or requests for a hearing, should be filed using ACCESS ¹³ and must be served on interested parties.¹⁴ An electronically-filed document must be received successfully in its entirety by ACCESS by 5:00 p.m. Eastern Time on the established deadline.¹⁵ Note that Commerce has temporarily modified certain of its requirements for serving documents containing business proprietary information, until further notice.¹⁶

¹³ See 19 CFR 351.303 (for general filing requirements).

¹⁴ See 19 CFR 351.303(f).

¹⁵ See 19 CFR 351.303(b)(1).

¹⁶ See Temporary Rule Modifying AD/CVD Service Requirements Due to COVID-19; Extension of Effective Period, 85 FR 41363 (July 10, 2020).

Final Results of Review

Unless extended, we intend to issue the final results of this administrative review, which will include the results of our analysis of all issues raised in the case and rebuttal briefs, within 120 days of publication of these preliminary results in the Federal Register, pursuant to section 751(a)(3)(A) of the Act.

Assessment Rates

Upon completion of the administrative review, pursuant to section 751(a)(2)(A) of the Act, Commerce shall determine, and U.S. Customs and Border Protection (CBP) shall assess, antidumping duties on all appropriate entries of subject merchandise in accordance with the final results of this review.

For individually examined respondents whose calculated weighted-average dumping margin is not zero or de minimis (i.e., less than 0.50 percent), we will calculate importer-specific ad valorem duty assessment rates based on the ratio of the total amount of dumping calculated for the importer's examined sales to the total entered value of those same sales in accordance with 19 CFR 351.212(b)(1). We will instruct CBP to assess antidumping duties on all appropriate entries covered by this review when the importer-specific assessment rate calculated in the final results of this review is not zero or de minimis. If a respondent's weighted-average dumping margin is zero or de minimis within the meaning of 19 CFR 351.106(c)(1), or an importer-specific assessment rate is zero or de minimis, we will instruct CBP to liquidate the appropriate entries without regard to antidumping duties. The final results of this review shall be the basis for the assessment of antidumping duties on entries of merchandise covered by this review where applicable.

Regarding entries of subject merchandise during the period of review that were produced by Perfiles and Regiopytsa and for which they did not know that the merchandise was destined for the United States, we will instruct CBP to liquidate such entries at the all-others rate of 3.76 percent, as established in the LTFV investigation, if there is no rate for the intermediate company(ies) involved in the transaction.¹⁷ For a full discussion of this matter, see Assessment Policy Notice.¹⁸

¹⁷ See Order, 73 FR at 45405.

¹⁸ See Antidumping and Countervailing Duty Proceedings: Assessment of Antidumping Duties, 68 FR 23954 (May 6, 2003) (Assessment Policy Notice).

For those companies which were not individually examined, we will instruct CBP to assess antidumping duties at an ad valorem rate equal to each company's weighted-average dumping margin as determined in the final results of this review.

Commerce intends to issue assessment instructions to CBP no earlier than 41 days after the date of publication of the final results of this review in the Federal Register, in accordance with 19 CFR 356.8(a). The final results of this review shall be the basis for the assessment of antidumping duties on entries of merchandise covered by this review where applicable.

Cash Deposit Requirements

The following deposit requirements will be effective for all shipments of the subject merchandise entered, or withdrawn from warehouse, for consumption on or after the publication date of the final results of this administrative review, as provided by section 751(a)(2)(C) of the Act: (1) The cash deposit rate for each specific company listed above will be equal to the weighted-average dumping margin established in the final results of this administrative review, except if the rate is less than 0.50 percent and, therefore, de minimis within the meaning of 19 CFR 351.106(c)(1), in which case the cash deposit rates will be zero; (2) for companies not participating in this review, the cash deposit rate will continue to be the company-specific rate published for the most recently completed segment of this proceeding in which the producer or exporter participated; (3) if the exporter is not a firm covered in this review, a prior review, or the original LTFV investigation but the producer is, the cash deposit rate will be the rate established for the most recently completed segment of this proceeding for the producer of the merchandise; and (4) the cash deposit rate for all other producers or exporters will continue to be the all-others rate of 3.76 percent.¹⁹

¹⁹ See Order, 73 FR at 45405.

These cash deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Commerce's presumption that reimbursement of antidumping duties occurred and the subsequent assessment of double antidumping duties.

Notification to Interested Parties

We are issuing and publishing this notice in accordance with sections 751(a)(1) and 777(i)(1) of the Act and 19 CFR 351.221(b)(4).

Dated: August 31, 2021.
James Maeder,
Deputy Assistant Secretary for Antidumping and Countervailing Duty Operations.

Appendix

List of Topics Discussed in the Preliminary Decision Memorandum

I. Summary

II. Background

III. Scope of the Order

IV. Companies Not Selected for Individual Examination

V. Discussion of the Methodology

VI. Currency Conversion

VII. Recommendation

[FR Doc. 2021-19320 Filed 9-3-21; 8:45 am]

BILLING CODE 3510-DS-P